ENVIRONMENTAL PROTECTION AGENCY

[FRL-6578-8]

Gulf of Mexico Program's Management Committee Meeting

AGENCY: Environmental Protection Agency (EPA).

ACTION: Notice of meeting.

SUMMARY: Under the Federal Advisory Act, Public Law 92463, EPA gives notice of a meeting of the Gulf of Mexico Program (GMP) Management Committee (MC).

DATES: The MC meeting will be held on Wednesday, May 10, 2000 from 1:00 p.m. to 5:30 p.m. and on Thursday, May 11, 2000 from 8:00 a.m. to 1:00 p.m.

ADDRESSES: The meeting will be held at the Chateau Sonesta Hotel, 800 Iberville Street, New Orleans, Louisiana, (504) 586-0800.

FOR FURTHER INFORMATION CONTACT: Gloria D. Car, Designated Federal Officer, Gulf of Mexico Program Office, Building 1103, Room 202, Stennis Space Center, MS 39529-6000 at (228) 688-2421.

SUPPLEMENTARY INFORMATION: Proposed agenda items will include: GMP Workplan Status-Key Milestones and Deliverables for FY 2000, Coordinated Out-year Federal Budget Development follow-up, Gulf of Mexico Regional Panel Workplan implementation discussion, Coastal America Regional Implementation Team joint projects discussion, review of State Coastal Zone Management Agency request for representation on GMP MC, Joint Gulf States Coastal Monitoring Program progress review, Mercury Contamination Report presentation, NOAA coastal programs overview and partnering opportunities discussion, and Communications Committee Report. The meeting is open to the public.

Dated: April 6, 2000.
James D. Giattina,
Director, Gulf of Mexico Program Office.

[FR Doc. 00-9390 Filed 4-14-00; 8:45 am]

BILLING CODE 6560-50-U